DEPARTMENT OF JUSTICE

[OMB Number 1110-0NEW]

Agency Information Collection Activities; Proposed eCollection eComments Requested; Request for a New Collection; Lawful Access Data Collection

AGENCY: Federal Bureau of Investigation, Department of Justice.

ACTION: 60-Day notice.

SUMMARY: The Department of Justice (DOJ), Federal Bureau of Investigation's (FBI's) Criminal Justice Information Services (CJIS) Division, will be submitting the following information collection request to the Office of Management and Budget (OMB) for review and approval in accordance with the Paperwork Reduction Act of 1995.

DATES: Comments are encouraged and will be accepted for 60 days until June 23, 2023.

FOR FURTHER INFORMATION CONTACT: If you have additional comments especially on the estimated public burden or associated response time, suggestions, or need a copy of the proposed information collection instrument with instructions or additional information, please contact Edward Abraham, Unit Chief, Federal Bureau of Investigation, Criminal Justice Information Services Division, Module D-1, 1000 Custer Hollow Road, Clarksburg, West Virginia 26306 (phone: 304-625-4830).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This collection is needed to collect data on the volume of law enforcement investigations that are negatively impacted by device and software encryption.

Overview of This Information Collection

1. Type of Information Collection: New collection.

2. The Title of the Form/Collection: Lawful Access Data Collection.

3. The agency form number, if any, and the applicable component of the Department sponsoring the collection: The collection will include a form. The applicable component within the Department of Justice is the CJIS Division, in the FBI.

4. Affected public who will be asked or required to respond as well as the obligation: The affected public is Federal Government. The obligation to respond is voluntary.

5. An estimate of the total number of respondents and the amount of time estimated for an average respondent to respond: It is estimated the FBI Uniform Crime Reporting Program's Lawful Access Data Collection (LADC) estimates 950,000 respondents will respond to this collection once annually with an estimated three (3) minutes and 12 seconds per response.

6. An estimate of the total public burden (in hours) associated with the collection: There are approximately 50,667 hours, annual burden, associated with this information collection.

Total Annual Burden
Activity | Number of respondents | Frequency | Total annual responses | Time per response | Total annual burden (hours)
New Collection Law Access Data | 950,000 | 1 | 950,000 | 0.05333333 or 3 min 12 secs | 50,667
Unduplicated Totals | 950,000 |  | 950,000 |  | 50,667

If additional information is required contact: John R. Carlson, Department Clearance Officer, United States Department of Justice, Justice Management Division, Policy and Planning Staff, Two Constitution Square, 145 N Street NE, 4W-218, Washington, DC 20530.

Dated: April 19, 2023.
John R. Carlson,
Department Clearance Officer for PRA, U.S. Department of Justice.

[FR Doc. 2023-08561 Filed 4-21-23; 8:45 am]

BILLING CODE 4410-02-P